DEPARTMENT OF ENERGY

Federal Energy Regulatory Commission

[Docket No. EL01-74-002, et al.]

Western Electricity Coordinating Council, et al.; Electric Rate and Corporate Filings

January 10, 2003.

The following filings have been made with the Commission. The filings are listed in ascending order within each docket classification.

1. Western Electricity Coordinating Council

[Docket Nos. EL01-74-002 and ER01-2058-002]

Take notice that on December 20, 2002 Western Electricity Coordinating Council (WECC) tendered for filing an amendment to the WECC Bylaws adding Appendix B, the WECC Officers and Employee Standards of Conduct, to WECC Rate Schedule FERC No. 1. WECC was established as a result of the merger of Western Systems Coordinating Council, Western Regional Transmission Association, and Southwest Regional Transmission Association.

This filing is made in accordance with the Commission's September 27, 2001 Order Granting Request to Transfer Programs and Directing Additional Filings, 96 FERC § 61,348 (2001). WECC states that copies of the filing were served upon all parties in the above-captioned proceedings.

Comment Date: January 24, 2003.

2. California Power Exchange Corporation

[Docket No. ER02-2234-007]

Take notice that on January 8, 2003, the California Power Exchange Corporation made a filing to amend its December 31, 2002 compliance filing in this proceeding. The amendment proposed only one change to clarify the heading in Column I of Rate Schedule Sheet No. 3.

Comment Date: January 29, 2003.

3. Midwest Independent Transmission System Operator, Inc.

[Docket No. ER02-2595-003]

Take notice that on January 6, 2003, the Midwest Independent Transmission System Operator, Inc. (Midwest ISO) tendered for filing proposed revisions to the Midwest ISO Open Access Transmission Tariff, FERC Electric Tariff, Second Revised Volume No. 1, in compliance with the Commission's Order in Midwest Independent Transmission System Operator Inc., 101 FERC § 61,221. The Midwest ISO has requested an effective date of November 25, 2002, which is the original date of effectiveness as granted by the Commission in Docket No. ER02-2595-000.

The Midwest ISO has requested waiver of the requirements set forth in 18 CFR 385.2010. The Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter.

Comment Date: January 27, 2003.

4. California Power Exchange Corporation

[Docket No. ER03-139-002]

Take notice that on January 8, 2003, the California Power Exchange Corporation made a filing to comply with the Commission's December 31, 2002 Order in this proceeding (101 FERC § 61,403).

Comment Date: January 8, 2003.

5. FPL Energy New Mexico Wind, LLC

[Docket No. ER03-179-001]

Take notice that on January 7, 2003, FPL Energy New Mexico Wind, LLC tendered for filing an amended FERC Electric Tariff, Original Volume No. 1, to be included as Attachment B to FPL Energy New Mexico Wind's prior application for authorization to sell energy and capacity at market-based rates pursuant to Section 205 of the Federal Power Act filed with the Commission on November 12, 2002.

Comment Date: January 28, 2003.

6. Central Maine Power Company

[Docket No. ER03-385-000]

Please take notice that on January 8, 2003, Central Maine Power Company (CMP) tendered for filing an executed Local Network Operating Agreement (LNOA) and executed service agreement for Local Network Transmission Service (LNSA) entered into with Boralex Livermore Falls, Inc. These agreements supersede unexecuted agreements previously filed under Docket No. ER00-2242-000. Service will be provided pursuant to CMP's Open Access Transmission Tariff, designated rate schedule CMP—FERC Electric Tariff, Fifth Revised Volume No. 3, under the following Service Agreement Numbers:

FERC Original Electric Tariff, Fifth Revised Volume No. 3, First Revised Service Agreement No. 86 (the LNSA agreement), and

FERC Original Electric Tariff, Fifth Revised Volume No. 3, First Revised Service Agreement No. 86, First Revised Supplement No. 1 (the LNOA agreement).

Comment Date: January 29, 2003.

7. Southern Company Services, Inc.

[Docket No. ER03-386-000]

Take notice that on January 6, 2003, Southern Company Services, Inc. (SCS), acting on behalf of Georgia Power Company (GPC), filed with the Federal Energy Regulatory Commission (Commission) the Interconnection Agreement between Athens Development Company, L.L.C. and GPC (Service Agreement No. 461 under Southern Companies' Open Access Transmission Tariff, Fourth Revised Volume No. 5). An effective date of January 6, 2003 has been requested.

Comment Date: January 27, 2003.

8. Upper Peninsula Power Company

[Docket No. ER03-387-000]

Take notice that on January 8, 2003, Upper Peninsula Power Company (UPPCo) tendered for filing a cover sheet and rate sheets setting forth its “Rate WR-1—Wholesale Service to Electric Utility” (Rate Sheets) to supplement First Revised Rate Schedule FERC No. 26 (Revised Rate Schedule) between UPPCo and the City of Escanaba, Michigan (City). The Rate Sheets which incorporate a Capital Gain Refund Factor set forth the rates for the provision of service under the Revised Rate Schedule and were inadvertently omitted from UPPCo's original June 28, 2002 filing in Docket No. ER02-2200-000 that revised certain portions of the Revised Rate Schedule.

UPPCo respectfully requests that the cover sheet and Rate Sheets become effective as of June 1, 2002, the date the Commission made the Revised Rate Schedule effective in Docket No. ER02-2200-000. UPPCo also states that copies of the filing were served upon the City of Escanaba and the Michigan Public Service Commission.

Comment Date: January 29, 2003.

9. Consumers Energy Company

[Docket No. ER03-388-000]

Take notice that on January 8, 2003, Consumers Energy Company (Consumers) tendered for filing changes to its First Revised Rate Schedule No. 116. Consumers states that the changes are being made to reflect the October 1, 2002 Order in Docket No. ER02-2420-000 and are being filed subject to the ultimate resolution of that docket. The revised pages filed are the Second Revised Sheet Nos. 11 and 23

Copies of the filing were served upon the customer and the Michigan Public Service Commission.

Comment Date: January 29, 2003.

10. Entergy Services, Inc.

[Docket No. ER03-389-000]

Take notice that on January 8, 2003, Entergy Services, Inc., on behalf of Entergy Louisiana, Inc., tendered for filing a unilaterally executed, amended and restated Interconnection and Operating Agreement with Union Carbide Corporation (Union Carbide), and an updated Generator Imbalance Agreement with Union Carbide (the First Revised Interconnection Agreement).

Comment Date: January 29, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-1027 Filed 1-15-03; 8:45 am]

BILLING CODE 6717-01-P